DEPARTMENT OF TRANSPORTATION

Office of the Secretary

Aviation Proceedings, Agreements Filed During the Week Ending December 15, 2000

The following Agreements were filed with the Department of Transportation under the provisions of 49 U.S.C. 412 and 414. Answers may be filed within 21 days after the filing of the application.

Docket Number: OST-2000-8523

Date Filed: December 12, 2000

Parties: Members of the International Air Transport Association

Subject:

CTC COMP 0330 dated 12 December 2000

Mail Vote 100—Resolution 033d

Currency Names, Codes, Rounding off Units and

Acceptability of Currencies (Amending)

Amend rounding units for the French Franc

Intended effective date: 1 January 2001

Docket Number: OST-2000-8534

Date Filed: December 12, 2000

Parties: Members of the International Air Transport Association

Subject:

PTC3 0460 dated 8 December 2000

TC3 between Japan, Korea and South Asian Subcontinent

Expedited Resolution 002ss

PTC3 0461 dated 8 December 2000

TC3 between Japan, Korea and South East Asia

Expedited Resolutions 002bb, 081pp

PTC3 0462 dated 8 December 2000

TC3 between Japan, Korea and South East Asia

Expedited Resolution 002gg

PTC3 0463 dated 8 December 2000

TC3 between Japan, Korea and South West Pacific

Expedited Resolutions

Intended effective date: 15 January, 1 February 2001

Docket Number: OST-2000-8535

Date Filed: December 12, 2000

Parties: Members of the International Air Transport Association

Subject:

PTC3 0456 dated 8 December 2000

TC3 Within South East Asia Expedited Resolution r002hh

PTC3 0457 dated 8 December 2000

TC3 Within South West Pacific Expedited Resolutions 002ii, 078

PTC3 0458 dated 8 December 2000

TC3 Between South East Asia and South Asian

Subcontinent Expedited Resolution 002rr

PTC3 0459 dated 8 December 2000

TC3 Between South Asian Subcontinent and South West

Pacific Expedited Resolutions 002jj, 080cc, 085uu

Intended effective date: 15 January 2001

Docket Number: OST-2000-8539

Date Filed: December 13, 2000

Parties: Members of the International Air Transport Association

Subject:

PTC2 EUR 0349 dated 17 December 2000

TC2 Within Europe Resolutions r1-r4

PTC2 EUR 0352 dated 8 December 2000

TC2 Within Europe Resolution r5-r41

PTC2 EUR 0353 dated 8 December 2000

TC2 Within Europe Resolution 002oo r42

Minutes—PTC2 EUR 0350 dated 21 November 2000

Tables—PTC2 EUR FARES 0049 dated 12 December 2000

Intended effective date: 1 March 2001, 1 April 2001,

1 June 2001

Docket Number: OST-2000-8553

Date Filed: December 15, 2000

Parties: Members of the International Air Transport Association

Subject:

PTC3 0455 dated 8 December 2000

TC3 Within South Asian Subcontinent Expedited

Resolution 002i

Intended effective date: 15 January 2001

Dorothy Y. Beard,
Federal Register Liaison.

[FR Doc. 01-2458 Filed 1-26-01; 8:45 am]

BILLING CODE 4910-62-P